DEPARTMENT OF AGRICULTURE

Forest Service

Klamath National Forest, California, Hi-Grouse Project

AGENCY: Forest Service, USDA.

ACTION: Notice of intent to prepare an environmental impact statement.

SUMMARY: The USDA Forest Service is preparing an Environmental Impact Statement (EIS) for the Hi-Grouse Project to reduce fuel hazard and restore forest health on the Goosenest Ranger District of the Klamath National Forest.

DATES: Comments concerning the scope of the analysis postmarked or received by 30 days after the publication of this notice are assured of being considered in the environmental analysis. The Draft Environmental Impact Statement is expected to be published in July 2009 and the Final Environmental Impact Statement is expected December 2009.

ADDRESSES: Send written comments to Goosenest District Ranger, Attn: Hi-Grouse Project, Klamath National Forest, 37805 Highway 97, Macdoel, CA 96058. You may also send electronic comments to the project e-mail box: comments-pacificsouthwest-klamath-goosenest@fs.fed.us.

FOR FURTHER INFORMATION CONTACT: District NEPA Planner, Wendy Dobrowolski at 530-398-5767 or Interdisciplinary Team Leader Lois Pfeffer at 559-359-7023 if you have questions, concerns or suggestions relating to this proposal.

SUPPLEMENTARY INFORMATION: The Hi-Grouse project area is located south of the Four Corners snowmobile trailhead and encompasses approximately 7,430 acres in the southeast portion of the Goosenest Ranger District. The legal description for the project area is all or portions of: T44N R2E Sections 23, 25-28, 32-36; T43N R2E, Sections 1-4, 9-13, T44N R3E Section 31, T43N R3E, Sections 6, 7, and 18 Mt. Diablo Meridian, Siskiyou County, California. State agencies, tribal governments, environmental groups, and local elected officials collaborated with the Forest Service early in the process to develop this project.

Management Direction

The project area includes a late-successional reserve, a special interest area and portions of the snowmobile trail system. Plans, policies and regulations that provide management direction for this project include (not limited to): Klamath National Forest Land and Resource Management Plan of 1995 (includes Standards and Guidelines from the Northwest Forest Plan); Goosenest Adaptive Management Area Ecosystem Analysis; Section 7(a) (1) of the Endangered Species Act; Healthy Forest Restoration Act; Clean Water Act; Clean Air Act; National Fire Plan; and Final Recovery Plan for the Northern Spotted Owl.

The project is designed to be consistent with all applicable policies and plans. The type of thinning proposed follows recommendations from the Late-Successional Reserve Assessment and Goosenest Adaptive Management Area analysis. The project is within the Fire-Prone Landscape area identified in the Northern Spotted Owl Recovery Plan. The entire project area (7,432 acres) lies within the Goosenest Adaptive Management Area and includes the following Management Areas (MA) as defined in the Klamath National Forest Land and Resource Management Plan of 1995 (Forest Plan): 4,635 acres General Forest MA 17; 2,574 acres Partial Retention Visual Quality Objective MA 15; 152 acres Special Habitat Late Successional Reserve MA 5; 71 acres Special Interest Area MA 7. There are no Riparian Reserves present in the project area.

Background

The Goosenest Adaptive Management Area was established under the Northwest Forest Plan (NWFP) with an emphasis on “Development of ecosystem management approaches, including use of prescribed burning and other silvicultural techniques, for management of pine forests, including objectives related to forest health, production and maintenance of late-successional forest and riparian habitat, and commercial timber production” (NWFP Standard & Guideline D-14). This area presents challenges typical of east-side forests that have experienced marked departures from historic species composition, density, and disturbance regimes.

The major influences on this area over the last 100 years are railroad logging beginning around 1900, grazing, fire suppression, and selective cutting prescriptions over the last several decades in the true fir dominated stands. Early logging removed the majority of the original pine forest and left white fir. The removal of pine seed sources, combined with livestock grazing and post-logging fires created ideal conditions for germination of true firs, which then became established and grew during the relatively warm and wet early half of the 20th century. Selective logging in the true fir types has lead to the introduction and spread of annosum root disease, which is now a major factor in stand health. Insect- and disease-related mortality is occurring in true firs and ponderosa pine. Mature lodgepole pine stands are continuing to experience heavy stand-replacing mortality due to the mountain pine beetle, and these high beetle populations are now infesting ponderosa pine within the white fir-pine type.

Many of the stands in the project area are overstocked and heavy mortality is expected to continue. Much of the project area is severely departed from the historic fire return intervals having missed several fire cycles. An overview of the existing and desired conditions broken into general stand types is provided below, as well as the need for change.

White Fir/Pine Community

Desired Condition: Pine-dominated stands that can withstand endemic level of insects and disease and are resilient in the event of a wildfire. White fir is a small component of the stands and generally found in moist pockets and north facing slopes.

Existing Condition: White fir has encroached, with the absence of natural fire, turning what was once a ponderosa pine dominated system into a white fir dominated stand too dense for ponderosa pine to withstand. Active bark beetle infestations have killed much of the pine, and what remains is highly susceptible to attack. White fir is not well suited for the site and limited to moist pockets or north facing slopes. The S-type of annosus root disease has been found in several of the stands, further reason that white fir will not be sustainable on these transitions zone sites.

Need for Change: White fir needs to be significantly reduced on these sites. Areas with extensive pine mortality may need to be planted with pine to achieve the desired condition. Fuel treatments are needed to reduce heavy fuel loadings.

Mixed Conifer

Desired Condition: Although not dominating most of these stands, ponderosa pine is a significant and sustainable component in these areas. These stands have a diverse assortment of diameter and age classes, high structural diversity, and old growth characteristics. Spotted owl and goshawk have ample habitat. Small openings provide for understory vegetation. These stands can withstand endemic level of insects and disease. The threat of stand-replacing wildfires has been reduced due to surrounding fuels treatments, and treatments within these stands have improved localized fuel conditions.

Existing Condition: Many of these stands are overstocked, and high white fir densities are having negative impacts on the high elevation ponderosa pine. Many stands are growing in such dense conditions that individual trees are unable to develop large primary limbs and full crowns, and diameter growth is slowed. Important features for future spotted owl and goshawk habitat. Fuel loadings are extremely high in many areas where the white fir is beginning to self-thin.

Need for Change: Overall stand density needs to be reduced to sustainable levels. Future spotted owl and goshawk nesting and foraging habitat needs to be brought on-line by culturing trees in younger stands to increase rates of diameter growth and to retain full crowns. White fir encroachment needs to be removed in and around pockets of ponderosa pine.

Lodgepole

Desired Condition: In the lodgepole stands young, resilient, and overall healthy trees are desired. Species diversity is increased by the presence of white fir, ponderosa pine and aspen in these stands. Increasing aspen is desired to increase species diversity. Initial attack forces will be able to contain wildfires using fuelbreaks along roads as anchors.

Existing Condition: In dense, contiguous tracts of lodgepole dominated stands, growth is stagnating and mortality from disease and beetle attacks are increasing. These stands are loaded with fuels, near areas with valuable wildlife habitat. Mixed among some of the lodgepole are individual trees and pockets of ponderosa pine, white fir, and aspen.

Need for Change: To prevent the current and eminent tree mortality from adding to the existing fuel loadings these trees need to be removed. Biomass entries may be necessary to reduce the residual densities. To promote the expansion of aspen in areas where aspen stands exist, adjacent competing conifers should be removed.

Purpose and Need for Action

The purpose and need for action is to address the major gaps between desired conditions, described in the Forest Plan for the Goosenest Adaptive Management Area (AMA) and the Northern Spotted Owl Recovery Plan, and the current conditions in the project area.

The purpose and need components identified for this project area are listed below:

—Mimic natural processes through management actions to promote healthy ecological conditions and replicate the role of natural disturbances.

—Decrease stand density over most of the project area to reduce disease and insects to endemic levels, and provide for resilient stocking levels of desired species.

—Increase the proportion of ponderosa pine, sugar pine, and white pine on suitable sites to mimic historical stand conditions.

—Release understory in lodgepole pines stands to increase stand diversity and remove dead and soon-to-be dead trees to reduce current and future fuel accumulations.

—Treat heavy fuel loadings to reduce the threat of stand-replacing wildfire and mimic historical fire regimes of low intensity fire behavior, protect older forest habitat components in the project area, and provide for firefighter safety.

—Increase stand diversity to enhance overall vegetative diversity.

—Promote and maintain sustainable owl habitat elements in the Goosenest AMA and the Late Successional Reserve MAs by promoting resiliency to fire, insect and disease on the landscape and by culturing young trees to increase growth and crowns for future suitable habitat.

—Maintain sustainable nesting and foraging habitat in the goshawk territories. In meeting the needs above, the proposed action must also achieve the following purposes:

—Maintain aesthetic values especially along sensitive routes and areas seen from high places.

—Identify appropriate monitoring (learning) objectives related to project activities in line with the Goosenest AMA.

Proposed Action

The Goosenest Ranger District of the Klamath National Forest proposes to restore ponderosa pine and mixed conifers, thin and use fuel reduction techniques on approximately 5,085 acres within the Goosenest AMA. The proposed actions were designed to address the purpose and need components and move towards the desired conditions while meeting plan standards and guidelines. This project involves altering stand density, structure, and species compositions, and the abatement of fuels generated from proposed activities as well as treatment of pre-existing fuel accumulations. The following activities are included in the proposed action. Some treatments overlap such as thinning followed with fuels abatement and underburning; and fuel treatment corridors overlapping other treatments.

Silvicultural Prescriptions and Objectives

Thinning from Below (2,682 acres)—Thinning from below is a thinning method that removes the subordinate trees in the stand, i.e., those trees that are smaller and shorter than the trees forming the upper canopy. Stand density is reduced, allowing the trees with the best crown development and size to utilize the new growing space and increase growth and ability to withstand fire and insects and disease. Species composition can also be altered by favoring some species to be left over others. In this project, the objectives are to improve overall stand vigor, favor the largest fire-resistant trees and species, and reduce the potential for crown fire through removal of trees that act as fire ladders and that could sustain a crown fire. The percentage of ponderosa pine, sugar pine, and white pine will increase in the residual stand. Thinning intensity will vary and areas will be left un-thinned to maintain stand diversity. Treatment of conifer stumps with a fungicide (trade name Sporax) to prevent colonization and spread of the conifer root disease Heterobasidion annosum. The prescription will include small openings of ¼ to 1 acre in size in up to 15 percent of a treated stand. Fuels overall abatement treatments include: Yarding tree tops, pile and burning, lop and scatter, and biomass removal options. Overall abatement treatments will be carried out on 2,497 acres of the thinned acres. Additional fuels treatments include mechanical mowing on 309 acres and underburning of 1,742 acres in stands that have larger amounts of fire-resistant species.

Ponderosa Pine/Mixed Conifer Restoration and Re-establishment (1,375 acres)—This prescription involves thinning to favor ponderosa, sugar, and white pine as the residual tree species in stands where white fir and red fir are heavily infested with annosum root disease and planting of pines where they are lacking. Post-treatment conditions will vary from thinned patches dominated by the largest pines to thinned patches dominated by white fir to areas of open pine forest. The larger areas of open pine and areas dominated by white fir will be planted to ponderosa pine, as well as rust-resistant sugar pine and white pine on the appropriate sites. The prescription will include un-thinned areas and small openings of ¼ to 1 acre in size in up to 15 percent of a treated stand. Treatment of conifer stumps with a fungicide (trade name Sporax) to prevent colonization and spread of the conifer root disease Heterobasidion annosum. Fuels treatments include overall abatement on all 1,375 acres with mechanical mowing on 107 acres followed with underburning of 939 acres in stands that have larger amounts of fire-resistant species. The objectives of this prescription are to restore historic species composition and stand structure to areas that have lost most of the historic pine species and are now dominated by diseased white fir.

Lodgepole Pine Thinning/Fuels Reduction (428 acres)—This prescription will remove remnant diseased lodgepole pines, pile fuels and thin the understory to promote the existing true firs and pine. The objective of this prescription is to move beetle-killed lodgepole stands towards an open stand structure with small trees of mixed species composition (including white fir, ponderosa pine, and lodgepole pine), that will be more resistant to mountain pine beetle mortality in the future. Treatment of stumps, 8 inches in diameter and larger, from live and recently dead conifers with a fungicide (trade name Sporax) would be done after tree cutting to prevent colonization and spread of the conifer root disease Heterobasidion annosum. Overall abatement treatments and mechanical mowing are planned on all 428 acres.

Plantation Thinning (99 acres)—Existing plantations will be thinned to promote growth, future fire resistance, and a mixed species composition with emphasis on ponderosa pine. Since ponderosa pine is generally the most under-represented species in these plantations due to natural seeding of lodgepole and true firs, it will be favored to be left over other species.

Fuels Prescriptions and Objectives

Overall Abatement (4,442 acres)—Overall abatement includes yarding tree tops, pile and burning, lop and scatter, and biomass removal treatment options.

Yarding Tree Tops—In all silvicultural prescriptions that involve tree removal, tree tops would be moved to the landing for treatment (reoffer as forest by products or burning). This treatment would reduce fuels levels as a result of operations.

Biomass Removal—Trees (generally less than 12”diameter breast height) would be removed in thinning operations to reduce potential crown fire behavior, improve species composition and reduce competition. Small diameter tree boles may be processed into bundles and removed.

Piling and Burning—Following silviculture treatment, piling and burning will be used in fuels treatment corridors or where post-treatment fuels present a fire hazard or may lead to difficulty carrying out prescribed underburning. It is not anticipated that this method will be used often since whole tree yarding will be done where possible.

Lopping Scattering—This method will be used primarily to treat slash generated in thinning of plantations. Objective will be to reduce height and continuity of fuels and promote faster decomposition. It is not anticipated that this method will be used often since mechanical treatment is a standard operating procedure. In areas that are inaccessible or unsafe for mechanized equipment, this treatment is an alternative.

Mechanical Mowing (844 acres)—Mowing will occur where shrubs and seedling and saplings are major determinants of fire behavior, as well as in lodgepole stands that are now dominated by small trees. Objectives will be to reduce shrub density and height and density of small trees to modify fire behavior.

Underburning (2,723 acres)—In some sites following thinning treatments, controlled underburning will be used to reduce natural fuel loads, past activity slash, shrubs and white fir understory trees, while increasing herbaceous species and encouraging pine regeneration by creating areas of exposed mineral soil. Where underburning is prescribed as a stand-alone treatment, cutting and piling of ladder fuels and mowing of brush could be carried out to reduce potential flame lengths and scorch to residual trees. Underburning will not be prescribed where the residual stand will be dominated by true firs; in these instances, fuels treatments will emphasize mechanical methods.

Fuels Treatment Corridors (Approximately 13 miles/480 acres)—This prescription was identified along major road corridors and certain access roads for fire control. Treatments will consist of small tree thinning and/or removal, pruning, mowing of brush, and hand or machine piling and burning of fuels concentrations. Treatments will generally extend 150 feet either side of the road, but may extend farther depending on slope and vegetation type.

Road Maintenance and Temporary Roads

Road Maintenance (as needed)—Access into the Hi-Grouse project area will be by a series of County and National Forest System (NFS) roads, near the community of Macdoel, California. The main NFS roads that serve the project area are: 15, 77, 44N80, 44N62, and 44N54.

Existing NFS roads within the project area received periodic clearing, blading and drainage structure maintenance in the 2007 and 2008 seasons. Roads needed for the project will be reassessed prior to and during activities to determine if maintenance is needed and may require light maintenance to meet project requirements, generally consisting of spot rocking, grading, and re-establishing drainage structures. There will be no new roads constructed or added to the Forest road system. All aggregate rock and water source requirements for this project can be met from existing sources on National Forest lands. No new sources will be developed.

Temporary Roads—Approximately 4.0 miles of temporary road will be needed to access thinning units, of which 3.25 miles will be on non-system roads from previous harvest entries. These roads will be decommissioned upon project completion. Decommissioning could include all or a combination of the following activities: (1) Placing earth or log mound barriers to prevent vehicle traffic; (2) subsoiling and outsloping the road surface; (3) installing water bars and other drainage structures; and (4) mulching with native materials (logging slash) or certified weed free straw.

New temporary roads will be located and constructed to design standards that minimize ground disturbance, protect resources, and provide safe transportation at the least possible cost.

Existing non-system roads are generally old jeep roads or temporary roads constructed for past harvest activities. Road reconstruction, as defined by Forest Service Manual 7700, will not be required.

Monitoring—Forest Plan monitoring (including Best Management Practices) will be conducted in conjunction with other Forest projects.

Tractor units will be monitored to ensure soil disturbance is within established guidelines. Northern spotted owl surveys will be conducted through the life of the project. As part of the Forest noxious weed program, inventory noxious weeds for 3 years after the project is completed or as long as it takes the vegetation to recover from project disturbance (as measured by ground duff cover and forb and shrub layer cover).

Upon completion of project activities, monitoring will be conducted to assess the positive or negative effects of fuels treatments. Monitoring will be completed by the Forest and/or interested stakeholders (multi-party monitoring) and will be subject to available funding and the ability of stakeholders to contribute funds or in-kind services. The immediate (1-3 years post-project) and long-term effects on landscape attributes will be monitored using a fire effects monitoring and inventory system (e.g., FIREMON). Monitoring will be used to (1) Document basic information during different phases of the project, (2) establish changes in attributes and trends through time, (3) analyze short and long-term fire effects, and (4) determine if project objectives related to fuels were met. Monitoring will be conducted according to the Klamath National Forest Fuels and Fire Effects Monitoring Guide (USDA Forest Service 2007). Project data will be collected and input into the monitoring database at intervals established by the project monitoring plan.

Lead and Cooperating Agencies

The USDA Forest Services is the lead agency.

Responsible Official

The Responsible Official for this project is the Forest Supervisor for the Klamath National Forest, Patricia A. Grantham, 1312 Fairlane Road, Yreka, California 96097.

Nature of Decision To Be Made

The responsible official for this proposal is the forest supervisor. Based on the analysis in the final EIS, the responsible official will make the following decisions and document them in a record of decision: (1) Whether to treat stands within the project area as proposed, or in what manner; and (2) What project design features should be applied.

Scoping Process

How to Comment: Opinions, values and suggestions for the general management direction for the Klamath National Forest will be noted, but will not be as useful to the ID Team as comments that are specific to the proposal. The ID Team is looking specifically for comments that discuss any impacts the proposed actions might have, especially to landowners, minorities, the local economy, recreational use and wildlife habitat.

How Your Comments Are Used: Once the ID Team has read your comments and identified the significant issues, they will begin to develop alternatives to the proposed actions. After they develop the alternatives, the next step is to analyze the environmental effects of those alternatives, the proposed actions and also the “No Action” alternative.

The alternatives, analysis of effects and related discussion will be presented to the public in the draft EIS, which is expected to be available for review in the summer of 2009. Following public review of the draft EIS, the ID Team will use the comments received to revise the document into the final EIS. Based on the results of environmental analysis and public input, the decision maker may issue a decision in a document titled the “Record of Decision”.

Contact Information and Schedule

Scoping comments postmarked or received by 30 days after the publication of the Notice of Intent in the Federal Register are assured of being considered in the environmental analysis. Please note that all input received during project planning is a matter of public record; therefore names and addresses of participants cannot be kept confidential. You may also submit an oral comment over the telephone, in person (during normal business hours). Written comments should be addressed to: Goosenest District Ranger, Klamath National Forest, Attn: Hi-Grouse Project, 37805 Hwy 97, Macdoel, California 96058.

You may also send electronic comments (.doc, .pdf, .rtf) to the District project e-mail box: comments-pacificsouthwest-klamath-goosenest@fs.fed.us.

A public meeting was held in the fall of 2007 to introduce interested parties to the project. The proposed treatments were field verified during the summer of 2008 and are similar to those discussed during the fall 2007 meeting. Feel free to contact the District office to arrange a meeting, or if you have any questions about submitting a comment, please contact Lois Pfeffer, ID Team leader at 559-359-7023 or Wendy Dobrowolski, District NEPA Planner, at the Goosenest Ranger District 530-398-5767.

Preliminary Issues

Effects to Northern Spotted Owl—During the development of the proposed action, the U.S. Fish and Wildlife Service designated approximately 1,751 acres of Critical Habitat for northern spotted owl within the Hi-Grouse project area. This new designation was not considered in the development of the proposed action and approximately 830 acres of the designated Critical Habitat is identified for forest restoration and fuels treatments. The newly designated critical habitat is depicted on the scoping map and will be considered in the development of alternatives and future resource protection measures.

Pine and mixed conifer restoration and re-establishment treatments would remove some current northern spotted owl habitat that is not expected to persist in the long term due to insects and disease. Pine and mixed conifer restoration treatments would maintain and promote largest, healthy remaining trees and re-establish historic species composition. Thinning treatments would increase sustainability of forest cover and northern spotted owl habitat over the long term by increasing the capacity of the stands to resist effects of drought, fire, insects and disease. Thinning and fuel reduction treatments would result in short-term impacts to some important northern spotted owl habitat elements, such as canopy cover and down woody debris. Treatments are designed to promote and maintain key elements of habitat (especially large fire-resistant trees) and restore historic forest conditions.

Comment Requested

This notice of intent initiates the scoping process which guides the development of the environmental impact statement. Your participation at this stage of the project is essential for the Interdisciplinary (ID) Team to develop effective, issue-driven alternatives and mitigations, as needed, to the proposed action. For the purposes of this EIS, an issue is defined as a point of discussion, dispute or debate about environmental effects of this proposed action. Issues are often identified by reviewing comments received from: the general public, Tribal governments, within the agency (including ID Team members), other federal agencies, state, county, and local governments and agencies. After the ID Team has reviewed all the comments received and identified the issues, they will begin to develop alternatives to the proposed actions that are based on any significant issues that were identified. You can help the Hi-Grouse ID Team develop effective alternatives by submitting your project-specific comments.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: December 11, 2008.
Patricia A. Grantham,
Forest Supervisor, Klamath National Forest.

[FR Doc. E8-30184 Filed 12-18-08; 8:45 am]

BILLING CODE 3410-11-P